SMALL BUSINESS ADMINISTRATION

[Disaster Declaration #11893 and #11894]

American Samoa Disaster # AS-00003

AGENCY: U.S. Small Business Administration.

ACTION: Notice.

SUMMARY: This is a Notice of the Presidential declaration of a major disaster for the Territory of American Samoa (FEMA—1859—DR), dated 09/29/2009.

Incident: Earthquake, Tsunami, and Flooding.

Incident Period: 09/29/2009 and continuing.

DATES: Effective Date: 09/29/2009.

Physical Loan Application Deadline Date: 11/30/2009.

Economic Injury (EIDL) Loan Application Deadline Date: 6/29/2010.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 09/29/2009, applications for disaster loans may be filed at the address listed above or other locally announced locations.

The following areas have been determined to be adversely affected by the disaster: The Territory of American Samoa.

The Interest Rates are:

For Physical Damage:

| Percent
Homeowners With Credit Available Elsewhere; | 5.500
Homeowners Without Credit Available Elsewhere; | 2.750
Businesses With Credit Available Elsewhere; | 6.000
Other (Including Non-Profit Organizations) With Credit Available Elsewhere; | 4.500
Businesses And Non-Profit Organizations Without Credit Available Elsewhere; | 4.000

For Economic Injury:

| Percent
Businesses & Small Agricultural Cooperatives Without Credit Available Elsewhere; | 4.000

The number assigned to this disaster for physical damage is 118932 and for economic injury is 118940.

(Catalog of Federal Domestic Assistance Numbers 59002 and 59008)

James E. Rivera,
Acting Associate Administrator for Disaster Assistance.

[FR Doc. E9-24175 Filed 10-6-09; 8:45 am]

BILLING CODE 8025-01-P